DEPARTMENT OF DEFENSE

Defense Acquisition Regulations System

48 CFR Parts 212, 225, and 252

[Docket DARS-2023-0005; Req No. DARS-2024-00010-FR]

RIN 0750-AK35

Defense Federal Acquisition Regulation Supplement: Export-Controlled Items (DFARS Case 2018-D053)

AGENCY: Defense Acquisition Regulations System, Department of Defense (DoD).

ACTION: Proposed rule; withdrawal.

SUMMARY: DoD is withdrawing the proposed rule to amend the Defense Federal Acquisition Regulation Supplement (DFARS) for the case titled: Export-Controlled Items (DFARS Case 2018-D053). The decision not to proceed with a final rule has been made because of a change in the associated policy requirements for certain contractors to provide export authorizations. Accordingly, this proposed rule is withdrawn, and the DFARS case is closed.

DATES: The proposed rule published on March 22, 2023, at 88 FR 17357 is withdrawn as of November 17, 2023.

FOR FURTHER INFORMATION CONTACT: Ms. Kimberly Bass, telephone 703-717-3446.

SUPPLEMENTARY INFORMATION:

I. Background

DoD published a proposed rule in the Federal Register on March 22, 2023, at 88 FR 17357 to amend the DFARS to implement a policy that would enable the Defense Contract Management Agency (DCMA) to obtain export authorizations from certain contractors, specifically, when a contract required government quality assurance surveillance oversight and had delivery to, or production or performance in, government quality assurance countries. The DMCA policy was to require the contractor to provide relevant export authorizations (i.e., export license exemptions, export license exceptions, export licenses, or other approvals) to the cognizant DCMA administrative contracting officer along with contact information for the empowered official or the export point of contact. Government quality assurance countries include the following countries: Australia, Belgium, Canada, Czech Republic, Denmark, Finland, France, Germany, Greece, Israel, Italy, Republic of Korea, Netherlands, Norway, Poland, Romania, Slovakia, Spain, Sweden, Turkey, and the United Kingdom.

The rule is withdrawn pending development of updated policy requirements.

List of Subjects in 48 CFR Parts 212, 225, and 252

Government procurement.

Jennifer D. Johnson,
Editor/Publisher, Defense Acquisition Regulations System.

[FR Doc. 2023-25159 Filed 11-16-23; 8:45 am]

BILLING CODE 6001-FR-P